DEPARTMENT OF THE INTERIOR

National Park Service

[NPS-WASO-NAGPRA-NPS0025998; PPWOCRADN0-PCU00RP14.R50000]

Notice of Inventory Completion: Heard Museum, Phoenix, AZ

AGENCY: National Park Service, Interior.

ACTION: Notice.

SUMMARY: The Heard Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Heard Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Heard Museum at the address in this notice by September 10, 2018.

ADDRESSES: David Roche, Director/CEO, Heard Museum, 2301 North Central Avenue, Phoenix, AZ 85004, telephone (602) 252-8840, email director@heard.org.

SUPPLEMENTARY INFORMATION: Notice is here given in accordance with the Native American Graves Protection and Repatriation Act (NAGPRA), 25 U.S.C. 3003, of the completion of an inventory of human remains and associated funerary objects under the control of the Heard Museum, Phoenix, AZ. The human remains and associated funerary objects were removed from Central and possibly Southern Arizona.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Heard Museum professional staff in consultation with representatives of Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

History and Description of the Remains

Between 1935 and 1960, human remains representing, at minimum, one individual were removed by Mr. Cross from an unknown site in Maricopa County, AZ. The human remains together with associated funerary objects, were acquired by Claud Black, then acquired by Harold Kennedy, and finally acquired by the Heard Museum in 1970, which assigned them catalog number NA-SW-SD-A1-30. The human remains are of a large individual, probably male. No known individuals were identified. The four associated funerary objects are: one piece of shell, two animal bone shafts, and one jar. The cultural affiliation of the jar and cremation has been changed from Salado to Hohokam, based on an updated pottery type identification of Salt Red.

Prior to 1982, human remains representing, at minimum, one individual were removed from an unknown site in central or southern AZ. The human remains were found in museum storage in 1982, and bore a Hohokam catalog number, NA-SW-HH-T-1. The human remains are those of a middle-aged adult of unknown gender. No known individuals were identified. No associated funerary objects are present. The Hohokam attribution is based on the catalog number and the typical Hohokam dentition exhibited by the human remains.

Prior to 1960, human remains representing, at minimum, one individual were removed from alternatively, Sacaton, Pinal County, AZ; Cashion, Maricopa County, AZ; or La Ciudad Ruin, Phoenix, Maricopa County, AZ. The human remains consist of a small bag of cremated bone fragments weighing less than 1 gram. In 1990, the human remains were found in a box which contained a returned loan; the bag was assigned catalog number 3288-1. The returned loan comprised two jars (NA-SW-HH-A4-14 and NA-SW-HH-A4-16) that had been collected by Carl A. Moosberg, from Sacaton, Pinal County, AZ; one jar (NA-SW-HH-A4-46) that had been collected by Russell Cross from Cashion, Maricopa County, AZ; and one jar (NA-SW-HH-A1-10) that had been collected by Frank Mitalsky, a.k.a. Frank Midvale, from La Ciudad Ruin, Phoenix, Maricopa County, AZ. The Hohokam attribution of the human remains is based on their association with the Hohokam jars; the human remains are presumed to have come from one of the jars. All of the jars were repatriated to the Gila River Indian Community in 1992.

The Hohokam lived in central and southern Arizona from about A.D. 1 to 1450. In 1990, the Ak-Chin Indian Community, Gila River Indian Community, Salt River Pima-Maricopa Community, and Tohono O'odham Nation jointly asserted a cultural affiliation to ancestors described as “Hohokam.” In 1994, the Hopi Tribe asserted its cultural affiliation to Hohokam followed by the Pueblo of Zuni in 1995.

Determinations Made by the Heard Museum

Officials of the Heard Museum have determined that:

• Pursuant to 25 U.S.C. 3001(9), the human remains described in this notice represent the physical remains of three individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico (hereafter referred to as “The Tribes.”)

Additional Requestors and Disposition

Lineal descendants or representatives of any Indian Tribe or Native Hawaiian organization not identified in this notice that wish to request transfer of control of these human remains and associated funerary objects should submit a written request with information in support of the request to David Roche, Director/CEO, Heard Museum, 2301 North Central Avenue, Phoenix, AZ 85004, telephone (602) 252-8840, email director@heard.org, by September 10, 2018. After that date, if no additional requestors have come forward, transfer of control of the human remains and associated funerary objects to The Tribes may proceed.

The Heard Museum is responsible for notifying The Tribes that this notice has been published.

Dated: July 10, 2018.
Melanie O'Brien,
Manager, National NAGPRA Program.

[FR Doc. 2018-17220 Filed 8-9-18; 8:45 am]

BILLING CODE 4312-52-P